NATIONAL SCIENCE FOUNDATION

Sunshine Act Meetings; National Science Board

The National Science Board (NSB), pursuant to National Science Foundation (NSF) regulations (45 CFR part 614), the National Science Foundation Act, as amended, (42 U.S.C. 1862n-5), and the Government in the Sunshine Act (5 U.S.C. 552b), hereby gives notice of the scheduling of meetings for the transaction of NSB business as follows:

TIME AND DATE: Wednesday, February 21, 2018, from 8:15 a.m. to 5:15 p.m. and Thursday, February 22, 2018, from 8:30 a.m. to 2:00 p.m. EST.

PLACE: These meetings will be held at the NSF headquarters, 2415 Eisenhower Avenue, Alexandria, VA 22314. Meetings are held in the boardroom on the 2nd floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Wednesday, February 21, 2018

Plenary Board Meeting

Open Session: 8:15-8:45 a.m.

• NSB Chair's Opening Remarks

• NSF Director's Remarks

• Summary of DC Meetings

Committee on Oversight (CO)

Open Session: 8:45-9:45 a.m.

• Committee Chair's Opening Remarks

• Approval of Prior Minutes

• Discussion of Merit Review Topics for Deeper Analysis

• Inspector General's Update

• Management Challenges

• FY 2017 Financial Statement Audit

• Federal Information Security Management Act Results

• Chief Financial Officer's Update

Committee on External Engagement (EE)

Open Session: 9:45-10:30 a.m.

• Committee Chair's Opening Remarks

• Approval of Prior Minutes

• Indicators 2018 Rollout

• Listening Sessions

• Private Sector Engagement

• Board Members Hosting Members of Congress

Committee on Awards and Facilities (A&F)

Open Session: 10:45-11:30 a.m.

• Committee Chair's Opening Remarks

• Approval of Prior Minutes

• Rolling Schedule of Planned Action and Information Items

• National Ecological Observatory Network (NEON) Update

• Member Report from November Antarctica Visit

Committee on National Science and Engineering Policy (SEP)

Open Session: 1:00-2:00 p.m.

• Committee Chair's Opening Remarks

• Approval of Prior Minutes

• Outcomes of the SEP Retreat

• Discussion of Policy Companion Statement to S&E Indicators 2018 Topics

Committee on Strategy (CS)

Open Session: 2:00-2:30 p.m.

• Committee Chair's Opening Remarks

• Approval of Prior Minutes

• FY 2018 Budget Update

• FY 2019 Budget Request Updated

Committee on Strategy (CS)

Closed Session: 2:30-3:00 p.m.

• Committee Chair's Opening Remarks

• Approval of Prior Minutes

• FY 2019 and FY 2020 Budget Discussion

Committee on Awards and Facilities (A&F)

Closed Session: 3:15-5:15 p.m.

• Committee Chair's Opening Remarks

• Approval of Prior Minutes

• Action Item: NSF's National Center for Optical-Infrared Astronomy (NCOA)

• Directorate of Geosciences Overview for Information/Action Items

• Information Item: National Center for Atmospheric Research (NCAR) Operations and Maintenance

• Information Item: NSF's Geophysical Observatory for Geosciences (NGEO) Operations and Maintenance

• Information Item: Ocean Observatories Initiative (OOI) Operations and Maintenance

• Information Item: Contract Services for Arctic Research Support and Logistics

MATTERS TO BE DISCUSSED:

Thursday, February 22, 2018

A&F Committee

Closed Session Continues: 8:30-9:30 a.m.

• Information Item: Laser Interferometer Gravitational-Wave Observatory Operations and Maintenance

• Astronomy Facilities Divestment Update

Plenary Board

Closed Session: 9:30-9:50 a.m.

• Board Chair's Opening Remarks

• Director's Remarks

• Approval of Prior Minutes

• Closed Committee Reports

• Vote: NSF's National Center for Optical-Infrared Astronomy (NCOA)

Plenary Board (Executive)

Closed Session: 9:50-10:15 a.m.

• Board Chair's Opening Remarks

• Approval of Prior Minutes

• Director's Remarks

• Appointment of Election Committee for May 2018 Board Elections

Skilled Technical Workforce Task Force

Open Session: 10:30-11:15 a.m.

• Chair's Opening Remarks

• “Grow With Google” Presentation

Plenary Board

Open Session: 11:15-11:45 a.m.

• Board Chair's Opening Remarks

• Discussion of Academy of Arts and Sciences Report—“Future of Undergraduate Education”

Plenary Board

Open Session Continues: 1:15-2:00 p.m.

• Board Chair's Opening Remarks

• NSF Director's Remarks

• Approval of Prior Minutes

• Open Committee Reports

• NSF's Implementation of the American Innovation and Competitiveness Act (AICA)

• Board Chair's Closing Remarks

Meeting Adjourns: 2:00 p.m.

MEETINGS THAT ARE OPEN TO THE PUBLIC:

Wednesday, February 21, 2018

8:15-8:45 a.m. Plenary NSB Introduction

8:45-9:45 a.m. Committee on Oversight (CO)

9:45-10:30 a.m. Committee on External Engagement (EE)

10:45-11:30 a.m. Committee on Awards & Facilities (AF)

1:00-2:00 p.m. Committee on National Science and Engineering Policy (SEP)

2:00-2:30 p.m. Committee on Strategy (CS)

Thursday, February 22, 2018

10:30-11:15 a.m. Skilled Technical Workforce Task Force

11:15-11:45 a.m., 1:15-2:00 p.m. Plenary

MEETINGS THAT ARE CLOSED TO THE PUBLIC:

Wednesday, February 21, 2018

2:30-3:00 p.m. (CS)

3:15-5:15 p.m. (A&F)

Thursday, February 22, 2018

8:30-9:30 a.m. (A&F)

9:30-9:50 a.m. Plenary

9:50-10:15 a.m. Plenary Executive

CONTACT PERSONS FOR MORE INFORMATION: The NSB Office contact is Brad Gutierrez, bgutierr@nsf.gov, 703-292-7000. The NSB Public Affairs contact is Nadine Lymn, nlymn@nsf.gov, 703-292-2490.

SUPPLEMENTARY INFORMATION: Public meetings and public portions of meetings held in the 2nd floor boardroom will be webcast. To view these meetings, go to: http://www.tvworldwide.com/events/nsf/180221 and follow the instructions. The public may observe public meetings held in the boardroom. The address is 2415 Eisenhower Avenue, Alexandria, VA 22314.

Please refer to the NSB website for additional information. You will find any updated meeting information and schedule updates (time, place, subject matter, or status of meeting) at https://www.nsf.gov/nsb/meetings/notices.jsp#sunshine.

The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant, National Science Board Office.

[FR Doc. 2018-03316 Filed 2-14-18; 11:15 am]

BILLING CODE 7555-01-P